DEPARTMENT OF COMMERCE

International Trade Administration

[Application No. 03-6A008]

Export Trade Certificate of Review

ACTION: Notice of issuance of an amended Export Trade Certificate of Review to California Pistachio Export Council, LLC (CPEC), Application No. 03-6A008.

SUMMARY: The Secretary of Commerce, through the Office of Trade and Economic Analysis (OTEA), issued an Export Trade Certificate of Review to CPEC on September 29, 2023.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

CPEC amended its Certificate as follows:

1. Added the following entity as a Member of the Certificate within the meaning of section 325.2(l) of the Regulations (15 CFR 325.2(l)):

a. Nichols Pistachio

List of Members, as amended:

1. Horizon Nut, LLC

2. Keenan Farms, Inc.

3. Meridian Nut Growers, LLC

4. Monarch Nut Company

5. Nichols Pistachio

6. Primex Farms, LLC

7. Setton Pistachio of Terra Bella, Inc.

8. Zymex Industries, Inc.

The effective date of the amended certificate is July 10, 2023, the date on which CPEC's application to amend was deemed submitted.

Dated: October 12, 2023.
Joseph Flynn,
Director, Office of Trade and Economic Analysis, International Trade Administration, U.S. Department of Commerce.

[FR Doc. 2023-22938 Filed 10-17-23; 8:45 am]

BILLING CODE 3510-DR-P